DEPARTMENT OF COMMERCE

National Oceanic and Atmospheric Administration

RIN 0648-XG767

North Pacific Fishery Management Council; Public Meeting

AGENCY: National Marine Fisheries Service (NMFS), National Oceanic and Atmospheric Administration (NOAA), Commerce.

ACTION: Notice of telephonic and in-person meeting.

SUMMARY: The North Pacific Fishery Management Council (Council) Trawl Electronic Monitoring Committee will meet March 4, 2019 through March 5, 2019.

DATES: The meeting will be held on Monday, March 4, 2019, from 9 a.m. to 5 p.m. and on Tuesday, March 5, 2019, from 9 a.m. to 5 p.m. (or as necessary), Pacific Standard Time.

ADDRESSES: The meeting will be held in the Traynor Room, Building 4 at the Alaska Fisheries Science Center, 7600 Sand Point Way NE, Seattle, WA 98115. Teleconference number: (907) 245-3900, Pin is 2809.

Council address: North Pacific Fishery Management Council, 605 W 4th Ave., Suite 306, Anchorage, AK 99501-2252; telephone: (907) 271-2809.

FOR FURTHER INFORMATION CONTACT: Elizabeth Figus, Council staff; telephone: (907) 271-2801.

SUPPLEMENTARY INFORMATION:

Agenda

Monday, March 4, 2019 to Tuesday, March 5, 2019

The agenda will include: Updates since the last meeting in November 2018; staff presentations about marine mammals and EM, the Chordata platform; reviewing edits to the white paper on retention and a data streams draft document, and lists of vessels included in the research plans; discussing funding development and timelines; planning for EFP applications, a Commissioner's Permit from ADFG, and potential IPHC exemptions; and, scheduling and other issues. The Agenda is subject to change, and the latest version will be posted at www.npfmc.org prior to the meeting, along with meeting materials.

Public Comment

Public comment letters will be accepted and should be submitted either electronically to www.meetings.npfmc.org or through the mail: North Pacific Fishery Management Council, 605 W 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: February 5, 2019.
Tracey L. Thompson,
Acting Deputy Director, Office of Sustainable Fisheries, National Marine Fisheries Service.

[FR Doc. 2019-01608 Filed 2-7-19; 8:45 am]

BILLING CODE 3510-22-P